DEPARTMENT OF HOUSING AND URBAN DEVELOPMENT

[Docket No. FR-5700-FA-03]

Announcement of Funding Awards; Fair Housing Initiatives Program Fiscal Year 2013

AGENCY: Office of the Assistant Secretary for Fair Housing and Equal Opportunity, HUD.

ACTION: Announcement of Funding Awards.

SUMMARY: In accordance with section 102(a)(4)(C) of the Department of Housing and Urban Development Reform Act of 1989, this announcement notifies the public of funding decisions made by the Department under the Notice of Funding Availability (NOFA) for the Fair Housing Initiatives Program (FHIP) for Fiscal Year (FY) 2013. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street SW., Room 5230,Washington, DC 20410, telephone number (202) 402-7095 (this is not a toll-free number). Persons with hearing or speech impairments may access this number through TTY by calling the toll-free Federal Relay Service at 800-877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent state and local fair housing laws. Implementing regulations are found at 24 CFR Part 125.

For FY 2013, the Department published two Fair Housing Initiatives Program (FHIP) NOFAs. On March 13, 2013, the Department published its first FY 2013 NOFA, which included a June 4, 2013 technical correction. The technical correction announced the availability of approximately $37,276,995 out of the Department's FY 2013 appropriation, to be utilized for FHIP projects and activities. In addition, on March 20, 2013 the Department published a second FHIP NOFA, the Continuing Development Component (CDC) NOFA announcing the availability of approximately $1,200,000 in funding for CDC FHIP projects and activities. Funding availability for discretionary grants for the FHIP NOFA and CDC NOFA included: the Private Enforcement Initiative (PEI) ($24,765,000), the Education and Outreach Initiative (EOI) ($3,771,575), and the Fair Housing Organizations Initiative (FHOI) ($9,940,420). The total available FHOI funding amount also includes the available CDC NOFA funding. This Notice thereby announces grant awards for the FY 2013 FHIP and CDC NOFAs of approximately $38,476,995.

For the FY 2013, the Department reviewed, evaluated and scored the applications received based on the criteria in the FY 2013 NOFAs. As a result, HUD has funded the applications announced in Appendix A, and in accordance with section 102(a)(4)(C) of the Department of Housing and Urban Development Reform Act of 1989 (103 Stat. 1987, 42 U.S.C. 3545). The Department is hereby publishing details concerning the recipients of funding awards in Appendix A of this document.

The Catalog of Federal Domestic Assistance Number for currently funded Initiatives under the Fair Housing Initiatives Program is 14.408.

Dated: April 10, 2014.
Bryan Greene,
Acting Assistant Secretary for Fair Housing and Equal Opportunity.

Appendix A FY2013 Fair Housing Initiatives Program Awards
Applicant name | Contact | Region | Award Amt.
Education and Outreach/Affirmatively Furthering Fair Housing Component
Fair Housing Contact Service, Inc., 441 Wolf Lodges Parkway, Suite 200, Akron, OH 44311 | Tamala Skipper, 330-376-6191 | 5 | 118,739.00
HOPE Fair Housing Center, 245 W. Roosevelt Road, Bldg. 15, Suite 107, West Chicago, IL 60185 | Shirley Stacy, 630-690-6500 | 5 | 124,991.00
Fair Housing of Marin, 615 B Street, San Rafael, CA 94901 | Caroline Peattie, 415-457-5025 | 9 | 124,999.00
Fair Housing Council of Oregon, 506 SW. 6th Avenue, Suite 1111, Portland, OR 97204 | Pegge McGuire, 503-223-8197 | 10 | 125,000.00
Education and Outreach/General Component
Chautauqua Opportunities, Inc., 17 West Courtney Street, Dunkirk, NY 14048 | Douglas Fricke, 716-366-3333 | 2 | 112,233.25
Citizen Action of New Jersey, 744 Broad Street, Suite 2080, Newark, NJ 07102 | Leila Amirhamzeh, 973-643-8800 | 2 | 125,000.00
Baltimore Metropolitan Council Inc., 1500 Whetstone Way, Suite 300, Baltimore, MD 21230 | Daniel Pontious, 410-732-0500 | 3 | 125,000.00
Equal Rights Center, 11 Dupont Circle, NW., Suite 450, Washington, DC 20036 | Maria Del Toro, 202-370-3209 | 3 | 125,000.00
Fair Housing Council of Suburban Philadelphia, Inc., 455 Maryland Drive, Suite 190, Fort Washington, PA 19034 | James Berry, 267-419-8918 | 3 | 124,849.00
Piedmont Housing Alliance, 1215 East Market Street, Suite B, Charlottesville, VA 22902 | Karen Reifenberger, 434-817-2436 | 3 | 66,234.00
Southwestern Pennsylvania, Legal Services, Inc., 10 West Cherry Ave., Washington, PA 15301 | Robert Brenner, 724-225-6170 | 3 | 125,000.00
Jacksonville Area Legal Aid Inc., 126 West Adams Street, Jacksonville, FL 32202 | James Kowalski, 904-356-8371 | 4 | 124,862.00
Greater New Orleans Fair Housing Housing Action Center, 404 S. Jefferson Davis Parkway, New Orleans, LA 70119 | James Perry, 504-596-2100 | 6 | 125,000.00
Mental Health Advocacy Services Inc., 3255 Wilshire Blvd., Los Angeles, CA 90010 | James Preis, 213-389-2077 | 9 | 121,000.00
Southwest Fair Housing Council, 2030 Broadway Blvd., Suite 101, Tucson, AZ 85719 | Richard Rhey, 520-798-1568 | 9 | 103,871.00
Education and Outreach Initiative/Higher Education Component
Fair Housing Center of Greater, Boston, 262 Washington Street, 10th Floor, Boston, MA 02108 | Gina Walcott, 617-399-0491 | 1 | 99,999.75
Suffolk University, 8 Ashburton Place, Boston, MA 02108 | Cindy Vachon, 617-725-4145 | 1 | 100,000.00
Tennessee State University, 3500 John A. Merritt Blvd., Nashville, TN 37209 | Joan Gibran, 615-963-7255 | 4 | 99,939.00
HOPE Fair Housing Center, 245 W. Roosevelt Road, Bldg. 15, Suite 107, West Chicago, IL 60185 | Anne Houghtaling, 630-690-6500 | 5 | 99,998.00
John Marshall Law School, 315 S. Plymouth Court 312-987-2397, Chicago, IL 60604 | Michael Seng | 5 | 99,865.00
Education and Outreach Initiative—National Media Campaign Component
National Fair Housing Alliance, 1101 Vermont Avenue NW., Suite 710, Washington, DC 20005 | Catherine Cloud, 202-898-1661 | 3 | 1,499,995.00
Fair Housing Organizations Initiative—Continuing Development Component General
Suffolk University, 8 Ashburton Place, Boston, MA 02108 | Cindy Vachon, 617-725-4145 | 1 | 324,999.00
Northern West Virginia Center for, Independent Living 304-296-6091, 601 East Brockway Avenue, Suite A & B, Morgantown, WV 26501 | Jan Derry | 3 | 240,401.00
Legal Aid of North Carolina, Inc., 224 S. Dawson Street, Raleigh, NC 27601 | Jeffrey Dillman, 919-861-1884 | 4 | 325,000.00
Mississippi Center for Justice, P.O. Box 1023, Jackson, MS 39215 | John Jopling, 228-435-7284 | 4 | 125,000.00
Fair Housing Center of Central , Indiana, Inc. 615 N. Alabama Street, Suite 426, Indianapolis, IN 46204 | Amy Nelson, 5 317-644-0643 | 5 | 324,709.00
Prairie State Legal Services, Inc., 303 North Main Street, Suite 600, Rockford, IL 61101 | David Wolowitz , 630-580-3309 | 5 | 325,000.00
North Texas Fair Housing Center, 8625 King George Drive, Suite 130, Dallas, TX 75235 | Frances Espinoza, 469-941-0383 | 6 | 309,890.00
Fair Housing Organizations Initiative/Establishing New Organizations Component
West Tennessee Legal Services, Inc., 210 W. Main Street, Jackson, TN 38301 | John Xanthopoulos, 731-426-1311 | 4 | 975,000.00
Fair Housing Organizations Initiative/Lending Component
Community Legal Aid, Inc., 405 Main Street, Worcester, MA 01608 | Faye Rachlin, 508-425-2794 | 1 | 204,800.00
Connecticut Fair Housing Center Inc., 221 Main Street, Hartford, CT 06106 | Erin Kemple, 860-247-4400 | 1 | 301,781.00
Fair Housing Center of Greater Boston, 262 Washington Street, 10th Floor, Boston, MA 02108 | Gina Walcott, 617-399-0491 | 1 | 138,830.77
Brooklyn Legal Services Corp. A , 260 Broadway, Suite 2, Brooklyn, NY 11211 | Gloria Ramon, 718-487-2328 | 2 | 325,000.00
Fair Housing Justice Center, Inc., 5 Hanover Square, 17th Floor, New York, NY 10004 | Kumiki Gibson, 212-400-8201 | 2 | 322,078.31
Legal Services NYC, 36 Richmond Terrace, Suite 205, Staten Island, NY 10301 | Nancy Goldhill, 718-233-6490 | 2 | 325,000.00
Long Island Housing Services, Inc., 640 Johnson Avenue 631-567-5111, Suite 8, Bohemia, NY 11716 | Michelle Santantonio | 2 | 325,000.00
LSNY-Bronx Corporation, dba Legal Services NYC-Bronx, 349 East 149th, 10th Floor, Bronx, NY 10451 | Justin Haines, 718-928-2894 | 2 | 325,000.00
South Brooklyn Legal Services, Inc., 105 Court Street, Brooklyn, NY 11201 | Meghan Faux, 718-246-3276 | 2 | 325,000.00
National Fair Housing Alliance, 1101 Vermont Avenue NW., Suite 710, Washington, DC 20005 | Catherine Cloud, 202-898-1661 | 3 | 324,943.00
Community Legal Services of Mid-Florida, Inc., 128 Orange Avenue, Suite 300, Daytona Beach, FL 32114 | Suzanne Edmunds, 386-255-6573 | 4 | 325,000.00
Jacksonville Area Legal Aid, Inc., 126 W. Adams Street, Jacksonville, FL 32202 | James Kowalski, 904-356-8371 | 4 | 324,986.00
Legal Aid Society of Palm Beach, County, Inc., 423 Fern Street, Street 200, West Palm Beach, FL 33401 | Robert Bertisch, 561-655-8944 | 4 | 325,000.00
Fair Housing Opportunities Inc., dba Fair Housing Center, 432 N. Superior, Toledo, OH 43604 | Michael Marsh, 419-243-6163 | 5 | 325,000.00
HOPE Fair Housing Center, 245 W. Roosevelt Road, Bldg. 15, Suite 107, West Chicago, IL 60185 | Shirley Stacy, 630-690-6500 | 5 | 324,962.00
John Marshall Law School, 315 S. Plymouth Court, Chicago, IL 60604 | Michael Seng, 312-987-2397 | 5 | 324,966.00
Metropolitan Milwaukee Fair, Fair Housing Council, 600 East Mason Street, Suite 401, Milwaukee, WI 53202 | William Tisdale, 414-278-1240 | 5 | 273,673.00
Miami Valley Fair Housing Center, Inc., 505 Riverside Drive, Dayton, OH 45405 | Jim McCarthy, 937-223-6035 | 5 | 325,000.00
Mid-Minnesota Legal Assistance, 430 First Avenue North, Suite 300, Minneapolis, MN 55401 | Lisa Cohen, 612-46-3770 | 5 | 325,000.00
South Suburban Housing Center, 18220 Harwood Avenue, Suite 1, Homewood, IL 60430 | John Petruszak, 708-957-4674 | 5 | 224,400.00
Greater New Orleans Fair Housing , Action Center, Inc., 404 South Jefferson Davis Parkway, New Orleans, LA 70119 | James Perry, 504-596-2100 | 6 | 325,000.00
Inland Mediation Board, 10681 Foothill Blvd., Suite 101, Rancho Cucamonga, CA 91730 | Lynne Anderson, 909-984-2254 | 6 | 325,000.00
Northwest Fair Housing Alliance, 35 W. Main, Suite 250, Spokane, WA 99201 | Marley Hochendoner, 509-209-2667 | 10 | 324,999.92
Private Enforcement Initiative/Multi-Year Component
Community Legal Aid, Inc., 405 Main Street, Worcester, MA 01608 | Faye Rachlin, 508-425-2794 | 1 | 320,214.33
Connecticut Fair Housing, Center, Inc., 221 Main Street, Hartford, CT 06106 | Erin Kemple, 860-247-4400 | 1 | 325,000.00
Fair Housing Center of Greater Boston, 59 Temple Place, Boston, MA 02111 | Whitney Sands, 617-399-0491 | 1 | 325,000.00
Housing Discrimination Project, Inc., 57 Suffolk Street, Holyoke, MA 01040 | Meris Bergquiest, 413-530-9796 | 1 | 325,000.00
New Hampshire Legal Assistance, 117 North State Street, Concord, NH 03301 | Daniel Feltes, 603-223-9750 | 1 | 271,061.00
Pine Tree Legal Assistance, 88 Federal Street 2, P.O. Box 547, Portland, ME 04112 | Nan Heald, 07-774-4753 | 1 | 325,000.00
Vermont Legal Aid, Inc., 264 North Winooski Avenue, Burlington, Vermont 05402 | Rachel Batterson, 802-863-5620 | 1 | 324,987.00
Fair Housing Council of Central, New York, Inc., 327 W. Fayette Street, Syracuse, NY 13202 | Merrilee Witherell, 315-471-0420 | 2 | 322,025.00
Fair Housing Council of Northern, New Jersey, 131 Main Street, Suite 140, Hackensack, NJ 07601 | Lee Porter, 201-489-3552 | 2 | 302,486.50
Fair Housing Justice Center, Inc., 5 Hanover Square, 17th Floor, New York, NY 10004 | Kumiki Gibson, 212-400-8201 | 2 | 324,999.00
Housing Opportunities Made Equal Inc., 700 Main Street, 3rd Floor, Buffalo, NY 14202 | Scott Gehl, 716-854-1400 | 2 | 308,167.00
Legal Assistance of Western, NY, Inc., 1 West Main Street, Suite 400, Rochester, NY 14614 | Louis Prieto, 585-295-5610 | 2 | 298,000.00
Legal Services NYC Staten Island, 36 Richmond Terrace, Staten Island, NY 10301 | Nancy Goldhill, 718-233-6490 | 2 | 325,000.00
Long Island Housing Services, Inc., 640 Johnson Avenue, Suite 8, Bohemia, NY 11716 | Michelle Santantonio, 631-567-5111 | 2 | 325,000.00
South Brooklyn Legal Services, Inc., 105 Court Street, Brooklyn, NY 11201 | Meghan Faux, 718-237-5500 | 2 | 325,000.00
Westchester Residential Opportunities, Inc., 470 Mamaroneck Avenue, Suite 410, White Plains, NY 10605 | Geoffrey Anderson, 914-428-4507 | 2 | 325,000.00
Baltimore Neighborhoods, Inc., 2217 St. Paul Street, Baltimore, MD 21218 | Elijah Etheridge, 410-243-4468 | 3 | 324,411.00
Community Legal Aid Society, Inc., 100 West 10th Street, Suite 801, Wilmington, DE 19801 | Nancy Goldhill, 718-233-6490 | 3 | 311,807.00
Equal Rights Center, 11 Dupont Circle NW., Suite, Washington, DC 20036 | Maria Del Toro, 450 202-370-3209 | 3 | 325,000.00
Fair Housing Council of Suburban, Philadelphia, Inc., 455 Maryland Drive, Suite 190, Fort Washington, PA 19034 | James Berry, 267-419-8918 | 3 | 324,877.00
Fair Housing Partnership of Greater Pittsburgh, 2840 Liberty Avenue, Suite 205, Pittsburgh, PA 15222 | Peter Harvey, 412-391-2535 | 3 | 325,000.00
Fair Housing Rights Center in Southeastern Pennsylvania, 105 W. Glenside Avenue, Suite E, Glenside, PA 19038 | Angela McIver, 215-576-7711 | 3 | 324,000.00
National Fair Housing Alliance, 1101 Vermont Avenue NW., Washington, DC 20005 | Catherine Cloud, 202-898-1661 | 3 | 325,000.00
Southwestern Pennsylvania Legal Services, Inc., 10 West Cherry Ave. Washington, PA 15301 | Robert Brenner, 724-225-6170 | 3 | 325,000.00
Bay Area Legal Services, Inc., 829 W. Dr. MLK, Jr., Blvd. Suite 200, Tampa, FL 33603 | Richard Woltmann, 813-232-1222 | 4 | 292,920.00
Central Alabama Fair Housing Center, 2867 Zelda Road, Montgomery, AL 36106 | Faith Cooper, 334-263-4663 | 4 | 324,000.00
Community Legal Services of Mid-Florida, Inc., 128 Orange Avenue, Daytona Beach, FL 32119 | Suzanne Edmunds, 386-255-6573 | 4 | 325,000.00
Fair Housing Center of the Greater Palm Beaches, Inc., 1300 W. Lantana Road, Suite 200, Lantana, FL 33462 | Vince Larkins, 561-533-8717 | 4 | 321,723.00
Fair Housing Continuum, Inc., 4760 N. Hwy. US 1, Suite, Melbourne, FL 32935 | David Baade, 203 321-757-3532 | 4 | 320,667.00
Jacksonville Area Legal Aid, Inc., 126 West Adams Street, Jacksonville, FL 32202 | James Kowalski, 904-356-8371 | 4 | 324,902.00
Legal Aid Society of Palm Beach County, Inc., 423 Fern Street, Suite200, West Palm Beach, FL 33401 | Robert Bertisch, 561-655-8944 | 4 | 313,246.00
Lexington Fair Housing Council, Inc., 207 E. Reynolds Road, Suite 130, Lexington, KY 40517 | Arthur Crosby, 859-971-8067 | 4 | 296,996.00
Metro Fair Housing Services, Inc., 175 Trinity Avenue, East Point, GA 30344 | Gail Williams, 404-524-0000 | 4 | 325,000.00
Mobile Fair Housing Center, Inc., P.O. Box 161202, Mobile, AL 36616 | Teresa Bettis, 251-479-1532 | 4 | 319,795.33
Tennessee Fair Housing Council, Inc., 107 Music City Circle, Suite 318, Nashville, TN 37214 | Tracey McCartney, 615-874-2344 | 4 | 325,000.00
West Tennessee Legal Services, Inc., 210 West Main Street, Jackson, TN 38301 | John Xanthopoulos, 731-426-1311 | 4 | 325,000.00
Access Living of Metropolitan, Chicago, 115 West Chicago Avenue, Chicago, IL 60654 | Jason Gilmore, 312-640-2185 | 5 | 325,000.00
Chicago Lawyers' Committee for Civil Rights Under Law, Inc., 100 North LaSalle Street, Suite 600, Chicago, IL 60602 | Jay Readey, 312-630-2185 | 5 | 325,000.00
Fair Housing Center of Metropolitan, Detroit, 220 Bagley Street, Suite 102, Detroit, MI 48226 | Clifford Schrupp, 313-963-1274 | 5 | 299,525.00
Fair Housing Center of Southeastern, Michigan P.O. Box 7825, Ann Arbor, MI 48107 | Pamela Kisch, 734-994-3426 | 5 | 275,765.00
Fair Housing Center of West Michigan, 20 Hall Street SE., Grand Rapids, MI 49507 | Nancy Haynes, 616-451-2980 | 5 | 325,000.00
Fair Housing Contact Services, Inc., 441 Wolf Ledges Parkway, Suite 200, Akron, OH 44311 | Tamela Skipper, 330-376-6191 | 5 | 325,000.00
Fair Housing Opportunities, Inc., dba Fair Housing Center, 432 N. Superior, Toledo, OH 43604 | Michael Marsh, 419-243-6163 | 5 | 325,000.00
Fair Housing Resource Center, Inc., 1100 Mentor Avenue, Painesville, OH 44077 | Patricia Kidd, 440-392-0147 | 5 | 325,000.00
HOPE Fair Housing Center, 245 W. Roosevelt Road, West Chicago, IL 60185 | Shirley Stacy, 630-690-6500 | 5 | 324,020.00
Housing Opportunities Made Equal of Greater Cincinnati, Inc., 2400 Reading Road, Suite 118, Cincinnati, OH 45202 | Elizabeth Brown, 513-721-4663 | 5 | 324,530.00
Housing Research and Advocacy Center, 2728 Euclid Avenue, Suite 200, Cleveland, OH 44115 | Hilary King, 216-361-9240 | 5 | 325,000.00
John Marshall Law School, 315 S. Plymouth Court, Chicago, IL 60604 | Michael Seng, 312-986-2397 | 5 | 279,951.00
Legal Services of Eastern Michigan, 436 S. Saginaw Street, Suite 101, Flint, MI 48502 | Teresa Trantham, 810-234-2621 | 5 | 266,448.00
Metropolitan Milwaukee Fair, Housing Council, Inc., 600 East Mason Street, Milwaukee, WI 53202 | William Tisdale, 414-278-1240 | 5 | 322,629.00
Miami Valley Fair Housing Center, Inc., 21 East Babbitt Street, Dayton, OH 45405 | Jim McCarthy, 937-223-6035 | 5 | 325,000.00
Mid-Minnesota Legal Assistance, 430 First Avenue North, Suite 300, Minneapolis, MN 55401 | Lisa Cohen, 612-746-3770 | 5 | 325,000.00
South Suburban Housing Center, 18220 Harwood Avenue, Suite 1, Homewood, IL 60430 | John Petruszak, 708-957-4674 | 5 | 324,775.00
Austin Tenants Council Inc., 1640-B E. Second Street, Suite 150, Austin, TX 78702 | Katherine Stark, 512-474-7007 | 6 | 324,741.97
Greater Houston Fair Housing Center, Inc., P.O. Box 292, 1900 Kane Street, Room 111, Houston, TX 77001 | Daniel Bustamente, 713-641-3247 | 6 | 325,000.00
Greater New Orleans Fair Housing, Action Center, Inc., 404 South Jefferson Davis Parkway, New Orleans, LA 70119 | James Perry, 504-596-2100 | 6 | 325,000.00
Metropolitan Fair Housing Council of Oklahoma, Inc., 1500 NE 4th Street, Suite 204, Oklahoma City, OK 73117 | Mary Dulan, 405-232-3247 | 6 | 324,479.00
San Antonio Fair Housing Council, Inc., 4414 Centerview Drive, Suite 229, San Antonio, TX 78228 | Sandra Tamez, 210-733-3247 | 6 | 325,000.00
Family Housing Advisory Services, Inc., 2401 Lake Street, Omaha, NE 68111 | Michael Robinson, 402-934-6727 | 7 | 325,000.00
Metropolitan St. Louis Equal Housing and Opportunity Council, 1027 S. Vandeventer Avenue, 6th Floor, St. Louis, MO 63110 | Willie Jordan, 314-448-9063 | 7 | 324,996.00
Disability Law Center, 205 N. 400 W, Salt Lake City, UT 84103 | Adina Zahradnikova | 8 | 234,296.67
Montana Fair Housing, Inc., 519 East Front Street, Butte, MT 59701 | Pamela Bean, 406-782-2573 | 8 | 167,900.00
Arizona Fair Housing Center, 615 N. 5th Avenue, Phoenix, AZ 85003 | Edward Valenzuela, 602-548-1599 | 9 | 317,651.00
Bay Area Legal Aid, 1735 Telegraph Avenue, Oakland, CA 94612 | Jaclyn Pinero, 510-250-5229 | 9 | 325,000.00
California Rural Legal Assistance, Inc., 631 Howard Street, Suite 300, San Francisco, CA 94105 | Susan Podesta, 530-742-7235 | 9 | 325,000.00
Fair Housing Council of Central California, 333 W. Shaw Avenue, Suite 14, Fresno, CA 93704 | Marilyn Borelli, 559-244-2950 | 9 | 259,034.00
Fair Housing Council of Riverside County, Inc., 3933 Mission Inn Avenue, Riverside, CA 92501 | Monica Lopex, 951-682-6581 | 9 | 284,894.00
Fair Housing of Marin, 615 B Street, San Rafael, CA 94901 | Caroline Peattie, 415-457-5025 | 9 | 324,998.00
Greater Bakersfield Legal Assistance, Inc., 615 California Avenue, Bakersfield, CA 93304 | Estela Casas, 661-334-4660 | 9 | 312,708.00
Greater Napa Fair Housing Center, 603 Cabot Way, Napa, CA 94559 | Nicole Collier, 707-224-9720 | 9 | 309,000.00
Inland Mediation Board, 10681 Foothill Blvd., Suite 101, Cucamonga, CA 91730 | Lynne Anderson, 909-984-2254 | 9 | 325,000.00
Legal Aid Society of Hawaii Elise, 924 Bethel Street, Honolulu, HI 96813 | Von Dohlen, 808-527-8056 | 9 | 325,000.00
Legal Aid Society of San Diego, Inc., 110 S. Euclid Avenue, San Diego, CA 92114 | Branden Butler, 619-417-2623 | 9 | 323,490.53
Orange County Fair Housing Council David Levy 9, 201 S. Broadway, Santa Ana, CA 92701 | David Levy, 714-569-0823 | 9 | 224,680.00
Silver State Fair Housing Council, 855 E. Forth Street, Suite E, Reno, NV 89512 | Katherine Knister, 775-324-0990 | 9 | 325,000.00
Southern California Housing Rights Center, 3255 Wilshire Blvd., Los Angeles, CA 90010 | Chancela Al-Mansour, 213-387-8400 | 9 | 324,980.00
Southwest Fair Housing Council, 2030 E. Broadway Blvd., Suite 101, Tucson, AZ 85719 | Richard Rhey, 520-798-1568 | 9 | 311,245.00
Fair Housing Center of Washington, 1517 South Fawcett, Suite 200, Tacoma, WA 98302 | Lauren Walker, 253-274-9523 | 10 | 325,000.00
Fair Housing Council of Oregon, 506 SW. 6th Avenue, Suite 111, Portland, OR 97204 | Pegge McGuire, 503-223-8197 | 10 | 325,000.00
Intermountain Fair Housing Council, Inc. 208-383-0695, 5460 | W. Franklin Road, Suite M 200, Boise, ID 83702 | Zoe Olson 10 | 324,630.00

[FR Doc. 2014-09174 Filed 4-21-14; 8:45 am]

BILLING CODE 4210-67-P